DEPARTMENT OF DEFENSE

Office of the Secretary

Submission for OMB Review; Comment Request

ACTION: Notice.

The Department of Defense has submitted to OMB for clearance, the following proposal for collection of information under the provisions of the Paperwork Reduction Act (44 U.S.C. Chapter 35). The Office of Management and Budget had previously approved this information collection requirement for use through September 30, 2001.

DATES: Consideration will be given to all comments received by November 13, 2001.

Title, Form Number, and OMB Number: Application for Former Spouse Payments from Retired Pay; DD Form 2293; OMB Number 0730-0008.

Type of Request: Reinstatement.

Number of Respondents: 20,520.

Responses per Respondent: 1.

Annual Responses: 20,520.

Average Burden per Response: 15 minutes.

Annual Burden Hours: 5,064.

Needs And Uses: Under 10 U.S.C. 1408, state courts may divide military retired pay as property or order alimony and child support payment from that retired pay. The former spouse may apply to the Defense Finance and Accounting Service (DFAS) for direct payment of these monies by using DD Form 2293. This information collection is needed to provide DFAS the basic data needed to process the request. The respondents of this information collection are spouses or former spouses of military members. The DD Form 2293 was devised to standardize applications for payment under 10 U.S.C. 1408. Information on the form is also used to determine the applicant's current status and contains statutory required certifications the applicant/former spouse must make when applying for payments.

Affected Public: Individuals or households.

Frequency: On occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: October 4, 2001.
Patricia L. Toppings,
Alternate OSD Federal Register Liaison Officer, Department of Defense.

[FR Doc. 01-25668 Filed 10-11-01; 8:45 am]

BILLING CODE 5001-08-M